DEPARTMENT OF COMMERCE

International Trade Administration

[A-570-831]

Fresh Garlic from the People's Republic of China; Notice of Amended Final Results of Antidumping Duty Administrative Review

AGENCY: Import Administration, International Trade Administration, Department of Commerce.

ACTION: Notice of Amended Final Results of Antidumping Duty Administrative Review.

SUMMARY: On January 30, 2003, the Department of Commerce published the final results of an administrative review of the antidumping duty order on fresh garlic from the People's Republic of China. The period of review is November 1, 2000, through October 31, 2001. The petitioners requested the correction of two ministerial errors with respect to the final results of review for Taian Fook Huat Tong Kee Pte. Ltd. Based on the correction of these two ministerial errors, we have concluded that this company's sale was bona fide and that the two corrections do not result in a change to the calculation of the final weighted-average margin for this company.

EFFECTIVE DATE: March 10, 2003.

FOR FURTHER INFORMATION CONTACT: Edythe Artman, Office of AD/CVD Enforcement 3, Import Administration, International Trade Administration, U.S. Department of Commerce, 14th Street and Constitution Avenue, NW, Washington, DC 20230; telephone: (202) 482-3931.

SUPPLEMENTARY INFORMATION:

Background

On January 30, 2003, the Department of Commerce (the Department) published the final results of an administrative review of the antidumping duty order on fresh garlic from the People's Republic of China in the Federal Register. See Fresh Garlic from the People's Republic of China; Final Results of Antidumping Duty Administrative Review and Rescission of Administrative Review in Part (68 FR 4758).

On January 29, 2003, the petitioners, the Fresh Garlic Producers Association and its individual members, filed an allegation of two ministerial errors in the final results of review with respect to the respondent company Taian Fook Huat Tong Kee Pte. Ltd. (FHTK). FHTK did not file comments on the allegations.

Allegation of Ministerial Errors

In its January 29, 2003, submission, the petitioners alleged that the Department made two ministerial errors in its January 21, 2003, final results analysis memorandum (Final Results Analysis Memorandum) regarding the calculation of FHTK's margin. First, the petitioners asserted that the Department erred in the amount it listed as the quantity of subject merchandise sold by FHTK. Second, they asserted that the Department erred in its statement of FHTK's reported sales price by stating the price as a per-kilogram amount instead of as a per-pound amount. The petitioners claimed that, because of this error, the Department had improperly dismissed their argument concerning the bona fides of FHTK's sale. Specifically, the petitioners claimed that the Department's conclusion that FHTK's price was not unreasonably high when compared to the average export price for Chinese garlic exported to the United States at the time of the sale was not supported by the price comparison that the Department explained in its Final Results Analysis Memorandum since the Department stated the FHTK price incorrectly. The petitioners requested that the Department revise its analysis using the correct price, conclude that the transaction in question was not a bona fide commercial sale, and issue amended final results in this review.

We have reviewed the record and agree that the quantity sold and the sales price were stated incorrectly in the Final Results Analysis Memorandum. By correcting the sales price, we find that the price was higher than the average export prices for Chinese garlic exported to the United States that we examined in our final results of review. Thus, we have reconsidered our analysis of whether FHTK's sale was bona fide.

In determining whether a transaction is bona fide for purposes of an antidumping review, the Department will typically consider the totality of circumstances surrounding a sale rather than a single circumstance, such as price. See Fresh Garlic from the People's Republic of China: Final Results of Antidumping Administrative Review and Rescission of New Shipper Review, 67 FR 11283 (March 13, 2002), and accompanying Issues and Decision Memorandum (Clipper Rescission); Notice of Final Results of Antidumping Duty New Shipper Review: Certain In-Shell Raw Pistachios from Iran, 68 FR 353 (January 3, 2003), and accompanying Issues and Decision Memorandum; and Freshwater Crawfish Tail Meat from the People's Republic of China; Notice of Final Results of Antidumping Duty New Shipper Review, and Final Rescission of Antidumping Duty New Shipper Review, 68 FR 1439 (January 10, 2003), and accompanying Issues and Decision Memorandum. We have reviewed the totality of circumstances surrounding FHTK's sale and have found that the transaction was a bona fide sale. Specifically, we found that, in light of average monthly U.S. import values for the subject merchandise during the period of review (POR), FHTK's price was not unreasonably high nor did the price provided a basis for determining that the sale was not commercially reasonable. In addition, we analyzed U.S. Customs Service data and found that the quantity involved in FHTK's transaction was not dissimilar to the quantity of other entries of subject merchandise during the POR and that the quantity was therefore commercially reasonable. We found that no information of record caused us to question the bona fides of FHTK or its customer as legitimate, historically commercial enterprises. Finally, we reviewed the record and confirmed that the terms of sale between FHTK and its customer were typical of the commercial selling practices of other exporters of the subject merchandise. For a detailed discussion of our review of the circumstances of FHTK's sale, see the “Memorandum to Faryar Shirzad from Susan Kuhbach” regarding the analysis of ministerial error comments (February 21, 2003), on file in the Central Records Unit, Main Commerce Building, Room B-099.

Amended Final Results of Review

Because correction of the two ministerial errors in the Final Results Analysis Memorandum does not result in a change of the calculation of the final margin for FHTK, the weighted-average margin remains 0.00 percent for this company.

We are issuing and publishing this determination and notice in accordance with sections 751(h) and 777(i)(1) of the Act.

Dated: March 3, 2003.
Faryar Shirzad,
Assistant Secretary for Import Administration.

[FR Doc. 03-5637 Filed 3-7-03; 8:45 am]

BILLING CODE 3510-DS-P